DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Discovery of Novel Pharmacophores Inhibiting the Growth of Mycobacterium tuberculosis

Description of Technology: Tuberculosis (TB) caused by Mycobacterium tuberculosis infects roughly one third of the world population and approximately 8 million people develop TB annually. The emergence of multi-drug resistant (MDR) and extensively drug-resistant (XDR) TB strains highlight the need for new drugs against TB. The inventions described herein are small molecules with drug-like properties that inhibit the growth of Mycobacterium tuberculosis. The compounds were discovered utilizing high-throughput screening of a 101,000 compound library. Three hundred active compounds inhibit Mycobacterium tuberculosis growth by 90% or greater in in vitro assays with MIC values ranging from 1.6 to less than 0.1 micrograms/ml, and showing minimal toxicity in tissue culture cells. Structure similarity analyses of the compounds reveal 44 chemical clusters representing 250 active compounds.

Applications: Treatment of TB infections.

Advantages: Novel drug candidates against TB.

Development Status: In vitro data can be provided upon request.

Market: TB therapeutics.

Inventors: Robert C. Goldman (NIAID) et al.

Publications: Manuscript in preparation.

Patent Status: U.S. Provisional Application No. 61/092,710 filed 28 Aug 2008 (HHS Reference No. E-310-2008/0-US-01).

Licensing Status: Available for exclusive or non-exclusive licensing.

Licensing Contact: Kevin W. Chang, Ph.D.; 301-435-5018; changke@mail.nih.gov.

Collaborative Research Opportunity: The NIAID, OTD, is seeking statements of capability or interest from parties interested in collaborative research to further develop, evaluate, or commercialize this “Discovery of Novel Pharmacophores Inhibiting the Growth of Mycobacterium Tuberculosis”. Please contact Anna Amar at 301-451-3525 for more information.

A Varicella-Zoster Virus Mutant That Is Markedly Impaired for Latent Infection Available for the Development of Shingles Vaccines and Diagnostics

Description of Technology: Reactivation of latent Varicella-Zoster virus (VZV) infection is the cause of shingles, which is prominent in adults over the age of 60 and individuals who have compromised immune systems, due to HIV infection, cancer treatment and/or transplant. Shingles is a worldwide health concern that affects approximately 600,000 Americans each year. The incidence of shingles is also high in Europe, South America, and India; the latter having an estimated two million individuals affected, yearly. Recent research studies show that VZV vaccines have a significant effect on decreasing the incidence of shingles in elderly.

The current technology describes compositions, cells and methods related to the production and use of a mutant VZV and the development of vaccines against the infectious agent. Latent VZV expresses a limited repertoire of viral genes including the following six open reading frames (ORFs): 4, 21, 29, 62, 63, and 66. The present invention describes an ORF29 mutant VZV that demonstrates a weakened ability to establish latency in animal studies. The current technology provides methods for using the mutant in the development of live vaccines and diagnostic tools. A related invention is described in PCT/US05/021788 (publication number WO2006012092).

Applications: Development of vaccines and diagnostics for prevention of shingles.

Development Status: Pre-clinical studies have been performed to demonstrate the reduced latency of the ORF29 mutant VZV in animals.

Inventors: Jeffrey Cohen (NIAID) and Lesley Pesnicak (NIAID).

Patent Status: U.S. Provisional Application No. 60/857,766 filed 09 Nov 2006 (HHS Reference No. E-029-2007/0-US-01); PCT Application No. PCT/US2007/084331 filed 09 Nov 2007, which published as WO 2008/079539 on 03 Jul 2008 (HHS Reference No. E-029-2007/0-PCT-02).

Licensing Status: Available for licensing and commercial development.

Licensing Contact: Kevin W. Chang, Ph.D.; 301-435-5018; changke@mail.nih.gov.

Collaborative Research Opportunity: The NIAID Laboratory of Clinical Infectious Diseases is seeking statements of capability or interest from parties interested in collaborative research to further develop, evaluate, or commercialize vaccine strains of VZV vaccine with impaired latency. Please contact Kelly Murphy, J.D., M.S., at 301/451-3523 or murphykt@niaid.nih.gov for more information.

Anti-Plasmodium Compositions and Methods of Use

Description of Technology: The present invention comprises peptides/antibodies specific for the binding proteins of Plasmodium, a parasite responsible for malaria, hence in effect blocking the parasite's binding to the erythrocytes. Also included are methods for their use in preventing, diagnosing or treating the related infections.

Although malaria is virtually eradicated in the United States, it continues to be one of the most serious infectious diseases in the world, killing millions of people each year in the countries throughout Africa, Asia and Latin America. In fact, over 41% of the world population lives in the regions affected by malaria. In vitro studies using the antibodies described in the current technology showed ~80% reduction in the number of blood cells infected with Plasmodium parasite. Infectivity studies using peptides demonstrated that they are also specifically able to prevent binding of parasites to blood cells. The claimed antibodies and peptides can also be used for immunization of humans and animals, or for development of diagnostic kits capable of detecting the presence, localization and quantity of the Plasmodium parasites in tissues and cells.

Applications: Diagnostics development; Vaccines development.

Inventors: David L. Narum and Kim Lee Sim (NIAID).

Relevant Publications:

1. Sim BK, Narum DL, Liang H, Fuhrmann SR, Obaldia N 3rd, Gramzinski R, Aguiar J, Haynes JD, Moch JK, Hoffman SL. Induction of biologically active antibodies in mice, rabbits, and monkeys by Plasmodium falciparum EBA-175 region II DNA vaccine. Mol Med. 2001 Apr;7(4):247-254.

2. Narum DL, Haynes JD, Fuhrmann S, Moch K, Liang H, Hoffman SL, Sim BK. Antibodies against the Plasmodium falciparum receptor binding domain of EBA-175 block invasion pathways that do not involve sialic acids. Infect Immun. 2000 Apr;68(4):1964-1966.

3. Liang H, Narum DL, Fuhrmann SR, Luu T, Sim BK. A recombinant baculovirus-expressed Plasmodium falciparum receptor-binding domain of erythrocyte binding protein EBA-175 biologically mimics native protein. Infect Immun. 2000 Jun;68(6):3564-3568.

Patent Status: HHS Reference No. E-004-2004/2—

• U.S. Patent No. 7,025,961 issued 11 Apr 2006

• Australian Patent No. 20042011615 issued 11 May 2007

• Canadian Application No. CA236247

• Japanese Application No. JP2000-602280 (published as JP,2002-540770,A)

Licensing Status: Available for exclusive or non-exclusive licensing.

Licensing Contact: RC Tang, JD, LLM; 301-435-5031; tangr@mail.nih.gov

Dated: December 1, 2008.
Richard U. Rodriguez,
Director, Division of Technology Development and Transfer, Office of Technology Transfer, National Institutes of Health.

[FR Doc. E8-29146 Filed 12-9-08; 8:45 am]

BILLING CODE 4140-01-P